DEPARTMENT OF JUSTICE

Federal Bureau of Investigation

Agency Information Collection Activities; Proposed Collection; Comments Requested

ACTION: Notice of Information Collection Under Review; Extension of a Currently Approved Collection; National Sexual Offender Registry (National Crime Information Center Convicted Sexual Offender Registry File).

The Department of Justice, Federal Bureau of Investigation, has submitted the following information collection request to the Office of Management and Budget (OMB) for review and clearance in accordance with review procedures of the Paperwork Reduction Act of 1995. This proposed information collection was previously published in the Federal Register (Volume 66, Number 14, Pages 6675-6676) on January 22, 2001, allowing 60 days for the public to comment. Neither the Federal Bureau of Investigation or the Department of Justice received any comments.

The purpose of this notice is to allow an additional 30 days for public comment until May 23, 2001. This process is conducted in accordance with 5 CFR 1320.10.

The proposed information collection is published to obtain comments from the public and affected agencies. Comments should be directed to Office of Management and Budget, Office of Information Regulatory Affairs, Attention: Department of Justice Desk Officer, Washington, DC 20530. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this collection:

(1) Type of Information Collection: Extension of currently approved collection.

(2) Title of the Form/Collection: National Sexual Offender Registry.

(3) Agency form number, if any, and the applicable component of the Department of Justice sponsoring the collection: Form: None. Federal Bureau of Investigation.

(4) Affected public who will be asked or required to respond, as well as a brief abstract: National sexual offender registry data is collected from the 50 states, 5 territories, and the District of Columbia. The registry was established by the FBI in accordance with federal law (42 U.S.C. 14072) in order to track the whereabouts and movements of persons convicted of a criminal offense against a victim who is a minor; a sexually violent offense; and/or are deemed sexually violent predators.

(5) An estimate of the total number of respondents and the amount of time estimated for an average respondent to respond: Estimated number of respondents: 56 Estimated time for average respondent to respond: 2 minutes per transaction (.033 hours).

(6) An estimate of the total of public burden (in hours) associated with the collection: Approximately 1500 annual burden hours.

If additional information is required contact: Robert B. Briggs, Department of Clearance Office, United States Department of Justice, Information Management and Security Staff Justice Management Division, Suite 1220, National Place, Pennsylvania Avenue NW., Washington, DC 20530.

Dated: April 17, 2001.
Robert B. Briggs,
Department Clearance Officer, Department of Justice.

[FR Doc. 01-9918 Filed 4-20-01; 8:45 am]

BILLING CODE 4410-02-M